DEPARTMENT OF ENERGY

Federal Energy Regulatory Commission

Combined Notice of Filings

Take notice that the Commission has received the following Natural Gas Pipeline Rate and Refund Report filings:

Filings Instituting Proceedings

Docket Number: PR18-42-000.

Applicants: Columbia Gas of Ohio, Inc.

Description: Tariff filing per 284.123(b),(e)/: COH Rates effective 4-2-2018.

Filed Date: 4/24/18.

Accession Number: 201804245078.

Comments/Protests Due: 5 p.m. ET 5/15/18.

Docket Number: PR18-44-000.

Applicants: Louisville Gas and Electric Company.

Description: Tariff filing per 284.123(b),(e)/: Revised Statement of Operating Conditions TCJA Surcredit to be effective 4/1/2018.

Filed Date: 5/1/18.

Accession Number: 201805015381.

Comments/Protests Due: 5 p.m. ET 5/22/18.

Docket Number: PR18-45-000.

Applicants: UGI Utilities, Inc.

Description: Tariff filing per 284.123(b),(e)+(g): Application for Authorization for Limited Jurisdiction Transportation Service to be effective 10/1/2018.

Filed Date: 5/2/18.

Accession Number: 201805025155.

Comments Due: 5 p.m. ET 5/23/18.

284.123(g) Protests Due: 5 p.m. ET 7/2/18.

Docket Number: PR18-46-000.

Applicants: UGI Central Penn Gas, Inc.

Description: Tariff filing per 284.123(b),(e)/: Application to Abandon Limited Jurisdiction Certificate to be effective 10/1/2018.

Filed Date: 5/2/18.

Accession Number: 201805025156.

Comments/Protests Due: 5 p.m. ET 5/23/18.

Docket Number: PR18-47-000.

Applicants: UGI Penn Natural Gas, Inc.

Description: Tariff filing per 284.123(e)/.224: Cancellation of SOC and Certificate to be effective 10/1/2018.

Filed Date: 5/3/18.

Accession Number: 201805035000.

Comments/Protests Due: 5 p.m. ET 5/24/18.

Docket Number: PR17-57-003.

Applicants: Houston Pipe Line Company LP.

Description: Tariff filing per 284.123(b),(e)+(g): 3rd Amended Rate Election of Houston Pipe Line Company LP Effective 11/01/2017.

Filed Date: 5/3/18.

Accession Number: 201805035041.

Comments Due: 5 p.m. ET 5/24/18.

284.123(g) Protests Due: 5 p.m. ET 7/2/18.

Docket Numbers: RP18-771-000.

Applicants: Chandeleur Pipe Line, LLC.

Description: Imbalance Annual True-Up Filing Waiver Request of Chandeleur Pipe Line, LLC.

Filed Date: 4/30/18.

Accession Number: 20180430-5455.

Comments Due: 5 p.m. ET 5/14/18.

Docket Numbers: RP18-702-001.

Applicants: National Fuel Gas Supply Corporation.

Description: Tariff Amendment: Amendment to RP18-702 to be effective 6/1/2018.

Filed Date: 5/2/18.

Accession Number: 20180502-5178.

Comments Due: 5 p.m. ET 5/14/18.

Docket Numbers: RP18-276-001.

Applicants: Southern Star Central Gas Pipeline, Inc.

Description: Compliance filing Gas Quality Resolution to be effective 4/26/2018.

Filed Date: 5/3/18.

Accession Number: 20180503-5036.

Comments Due: 5 p.m. ET 5/15/18.

Docket Numbers: RP18-794-000.

Applicants: Gulf Crossing Pipeline Company LLC.

Description: § 4(d) Rate Filing: Cap Rel Neg Rate Agmt (Newfield 18 to Sequent 1982) to be effective 5/3/2018.

Filed Date: 5/3/18.

Accession Number: 20180503-5003.

Comments Due: 5 p.m. ET 5/15/18.

Docket Numbers: RP18-795-000.

Applicants: Arlington Storage Company, LLC.

Description: Compliance filing Compliance Filing to Implement Firm Wheeling Service to be effective 6/4/2018.

Filed Date: 5/3/18.

Accession Number: 20180503-5040.

Comments Due: 5 p.m. ET 5/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2018.
Nathaniel J. Davis, Sr.,
Deputy Secretary.

[FR Doc. 2018-10002 Filed 5-10-18; 8:45 am]

BILLING CODE 6717-01-P